OVERSEAS PRIVATE INVESTMENT CORPORATION

Sunshine Act Meeting; January 19, 2005, Public Hearing

OPIC's Sunshine Act notice of its Public Hearing in conjunction with each Board meeting was published in the Federal Register (Volume 70, Number 3, Page 982) on January 5, 2005. No requests were received to provide testimony or submit written statements for the record; therefore, OPIC's public hearing in conjunction with OPIC's January 27, 2005 Board of Directors meeting scheduled for 9:30 a.m. on January 27, 2005 has been cancelled.

FOR FURTHER INFORMATION CONTACT: Information on the hearing cancellation may be obtained from Connie M. Downs at (202) 336-8438, via facsimile at (202) 218-0136, or via e-mail at cdown@opic.gov.

Dated: January 14, 2005.
Connie M. Downs,
OPIC Corporate Secretary.

[FR Doc. 05-1213 Filed 1-18-05; 12:28 pm]

BILLING CODE 3210-01-M